DEPARTMENT OF TRANSPORTATION

Federal Aviation Administration

14 CFR Part 39

[Docket No. 2003-NE-68-AD; Amendment 39-13825; AD 2004-21-04]

RIN 2120-AA64

Airworthiness Directives; Becker Flugfunkwerk GmbH AR 4201 VHF AM Transceivers

AGENCY: Federal Aviation Administration (FAA), DOT.

ACTION: Final rule.

SUMMARY: The FAA is adopting a new airworthiness directive (AD) for certain Becker Flugfunkwerk GmbH AR 4201 VHF AM transceivers. This AD requires adding an aircraft flight manual (AFM) limitation to the Limitations Section of the AFM, and cockpit placard due to the intermittent malfunctioning of the transceiver, or removing the affected transceiver from service. This AD results from reports of crewmembers having difficulty communicating with Air Traffic Control and other aircraft due to the AR 4201 VHF AM transceiver's inability to block interference from transmitters operating on frequencies other than those set in the transceiver. We are issuing this AD to prevent difficulty in communicating with Air Traffic Control and other aircraft due to intermittent malfunctioning of the transceiver.

DATES: This AD becomes effective November 19, 2004.

ADDRESSES: You may examine the AD Docket at the FAA, New England Region, Office of the Regional Counsel, 12 New England Executive Park, Burlington, MA.

FOR FURTHER INFORMATION CONTACT: David Setser, Aerospace Engineer, Boston Aircraft Certification Office, FAA, Engine and Propeller Directorate, 12 New England Executive Park, Burlington, MA 01803-5299; telephone (781) 238-7173; fax (781) 238-7170.

SUPPLEMENTARY INFORMATION: The FAA proposed to amend 14 CFR part 39 with a proposed airworthiness directive (AD). The proposed AD applies to Becker Flugfunkwerk GmbH AR 4201 VHF AM transceivers. We published the proposed AD in the Federal Register on May 20, 2004 (69 FR 29108). That action proposed to require adding an aircraft flight manual (AFM) limitation to the Limitations Section of the AFM, and cockpit placard due to the intermittent malfunctioning of the transceiver, or removing the affected transceiver from service.

Examining the AD Docket: You may examine the AD Docket (including any comments and service information), by appointment, between 8 a.m. and 4:30 p.m., Monday through Friday, except Federal holidays. See ADDRESSES for the location.

Comments

We provided the public the opportunity to participate in the development of this AD. We received no comments on the proposal or on the determination of the cost to the public.

Conclusion

We have carefully reviewed the available data and determined that air safety and the public interest require adopting the AD as proposed.

Costs of Compliance

There are 9,349 Becker Flugfunkwerk GmbH AR 4201 VHF AM transceivers of the affected design in the worldwide fleet. There are about 1,000 transceivers installed on aircraft of U.S. registry. We estimate that it would take about 2 work hours per transceiver to inspect and or remove a transceiver from service, and that the average labor rate is $65 per work hour. The average retail cost of an AR 4201 transceiver is $1,149. If all transceivers were replaced, the total purchase cost would be about $1,149,000. Based on these figures, the total cost of the AD to U.S. operators to replace transceivers is estimated to be $1,279,000.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-68-AD” in your request.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2004-21-04 Becker Flugfunkwerk GmbH: Amendment 39-13825. Docket No. 2003-NE-68-AD.

Effective Date

(a) This AD becomes effective November 19, 2004.

Affected ADs

(b) None.

Applicability

(c) This AD applies to Becker Flugfunkwerk GmbH AR 4201 VHF AM transceivers, with serial numbers (SNs) 0150 through 9499.

Unsafe Condition

(d) This AD results from reports of crewmembers having difficulty communicating with Air Traffic Control and other aircraft due to the AR 4201 VHF AM transceiver's inability to block interference from transmitters operating on frequencies other than those set in the transceiver. We are issuing this AD to prevent difficulty in communicating with Air Traffic Control and other aircraft due to intermittent malfunctioning of the transceiver.

Compliance

(e) You are responsible for having the actions required by this AD performed within five days after the effective date of this AD, unless the actions have already been done.

(f) For installed Becker Flugfunkwerk GmbH AR 4201 VHF AM transceivers, inspect the SN. If the transceiver does not have an affected SN, no further action is required.

(g) If the transceiver has an affected SN, and does not have Change Index 02 or higher index number marked on it, do the following:

(1) Add an aircraft flight manual (AFM) limitation to the Limitations Section of the AFM, that restricts transceiver usage to VFR operations, and add a placard to the cockpit within view of the pilot that states, in ¼ inch-high or higher characters, “Use of Becker Comm Equipment AR 4201 is restricted to VFR operations”; or

(2) Remove the transceiver from service.

(h) After the effective date of this AD, do not install any Becker Flugfunkwerk GmbH AR 4201 VHF AM transceiver with an affected SN that does not have Change Index 02 or higher index number marked on it, unless it was removed to determine the SN or to check for Change Index 02 or higher index number.

Terminating Action

(i) If you later install a transceiver that is not listed in this AD or install a transceiver that is marked with Change Index 02 or higher index number, remove the limitation from the Limitations Section of the AFM, and placard if present, that are specified in paragraph (g)(1).

Alternative Methods of Compliance

(j) The Manager, Boston Aircraft Certification Office, has the authority to approve alternative methods of compliance for this AD if requested using the procedures found in 14 CFR 39.19.

Material Incorporated by Reference

(k) None.

Related Information

(l) LBA airworthiness directive No. 2003-234, dated August 21, 2003, and Becker Flugfunkwerk GmbH Service Bulletin No. AR 4201-01/03; dated July 22, 2003, also pertain to the subject of this AD.

Issued in Burlington, Massachusetts, on October 8, 2004.
Jay J. Pardee,
Manager, Engine and Propeller Directorate, Aircraft Certification Service.

[FR Doc. 04-23143 Filed 10-14-04; 8:45 am]

BILLING CODE 4910-13-P